DEPARTMENT OF ENERGY

Notice of Availability of a Financial Assistance Solicitation

AGENCY: U.S. Department of Energy (DOE), National Energy Technology Laboratory (NETL).

ACTION: Notice of Availability of a Financial Assistance Solicitation.

SUMMARY: The Department of Energy announces that it intends to conduct a competitive Program Solicitation (DE-PS26-00BC15304) and award financial assistance (cooperative agreements) for the program entitled “Identification and Demonstration of Preferred Upstream Management Practices (PUMP) for the Oil Industry.” The Department of Energy (DOE) National Energy Technology Laboratory (NETL), on behalf of the National Petroleum Technology Office (NTPO), seeks cost-shared research and development applications for identification of preferred management practices (PMP) addressing a production barrier in a region and the documentation of these practices for use by the oil industry. The near-term goal is to increase current domestic oil production quickly.

Awards will be made to a limited number of applicants based on the economic and technical merit of the application, the integrated approach and technical understanding, the technical and management capabilities of the applicant organization(s), the planned technology transfer activities, and availability of DOE funding.

FOR FURTHER INFORMATION CONTACT: Keith R. Miles, U.S. Department of Energy, National Energy Technology Laboratory, Acquisition and Assistance Division, P.O. Box 10940, MS 921-143, Pittsburgh PA 15236-0940, Telephone: (412) 386-5984, FAX: (412) 386-6137, E-mail: miles@netl.doe.gov.

SUPPLEMENTARY INFORMATION: Solicitation Number: DE-PS26-00BC15304.

Awards: DOE anticipates issuing financial assistance (cooperative agreements) for each project selected. DOE reserves the right to support or not support, with or without discussions, any or all applications received in whole or in part, and to determine how many awards will be made. Subject to availability of funding, DOE expects to provide funds totaling $4.8 million. The program seeks to sponsor projects for a single budget/project period of 24 months or less. Due to the low risk and near-term nature of the PUMP program and the potential for a process or technology demonstration, all applicants are required to cost share at a minimum of 50% of the project total. Details of the cost sharing requirement, and the specific funding levels are contained in the solicitation.

Solicitation Release Date: This Program Solicitation (available in both WordPerfect 6.1 and Portable Document Format (PDF)) is expected to be ready for release on or about April 15, 2000 and will be available from NETL's World Wide Web Server Internet System at http://www.netl.doe.gov/business. Telephone requests, written requests, E-mail requests, or facsimile requests for a copy of the solicitation package will not be accepted and/or honored. Applications must be prepared and submitted in accordance with the instructions and forms contained in the solicitation. The actual solicitation document will allow for requests for explanation and/or interpretation.

Background: The National Petroleum Technology Office of the Department of Energy (DOE) Office of Fossil Energy (FE) has authorized DOE's National Energy Technology Lab (NETL) to act on its behalf and solicit cost-shared applications for identification of preferred management practices (PMP) addressing a production barrier in a region and the documentation of these practices for use by the industry. The near-term goal is to increase current domestic oil production quickly.

The mission of the Department of Energy's Fossil Energy Oil Program is driven by the needs of the oil producers. The overall program is designed to develop unique technologies and processes to locate untapped resources; to extend the life of domestic energy resources; and to reduce well abandonment—all essential to maximizing the production of domestic resources while protecting our environment. The National Petroleum Technology Office's Preferred Upstream Management Practices (PUMP) program as a part of this overall goal is designed to facilitate production of existing oil reserves more quickly without sacrificing efficiency or environmental protection.

Based on prior successful results from demonstrations of under-utilized or advanced technology coupled with reservoir characterization, the DOE Oil Program seeks to demonstrate that the identification and use of PMP can overcome regional constraints to increased production. The program will accept proposals that combine the identification of preferred management practices (PMP) to overcome regional production constraints and aggressive technology transfer that will promote the use of those practices. Barriers can be identified as technical, physical, regulatory, environmental, or economic. The selected projects are expected to employ the following four (4) strategies in order to have a rapid impact on production: (1) focus on regions that present the biggest potential for additional oil production quickly, (2) integrate solutions to technological, economic, regulatory, and data constraints, (3) demonstrate the validity of these practices either through field demonstration during the project or documentation of well-run successful past demonstration, and (4) use known technology transfer mechanisms.

Using a regional approach where the projects will have a wide applicability, an integrated approach scheduling tasks along parallel paths to facilitate a quicker response, and operating with existing networks, the production results in the field should be accelerated. The documentation and evaluation of the PMP will be a valuable resource to all producers in the applicable area and possibly other regions as well.

This program expects near-term results and actions that will create data or technological resources suitable for long-term use. Teaming is encouraged and the proposal partners could include, but not be limited to, producers, producer organizations, universities, service companies, State agencies or organizations, non-Federal research laboratories, and Native American Tribes or Corporations. They will demonstrate practices and/or technologies that can increase production, increase cost savings, or rapid returns on the capital investments of the operators. New technologies/processes or under-used but effective applications of existing technologies/processes critical to a region will be demonstrated.

The DOE will make publicly available over the Internet the data on preferred practices resulting from this program. The resulting publicly available databases of the preferred practices will be interactive, Internet accessible, should include both technologies and practices, and address constraints in the exploration, production, or environmental areas.

Issued in Pittsburgh, PA on April 4, 2000.
Dale A. Siciliano,
Deputy Director, Acquisition and Assistance Division.

[FR Doc. 00-8892 Filed 4-10-00; 8:45 am]

BILLING CODE 6450-01-P